DEPARTMENT OF COMMERCE

International Trade Administration

[A-570-937]

Citric Acid and Certain Citrate Salts from the People's Republic of China: Amended Final Results of the First Administrative Review of the Antidumping Duty Order

AGENCY: Import Administration, International Trade Administration, Department of Commerce.

SUMMARY: On December 14, 2011, the Department of Commerce (“Department”) published the final results of the first administrative review of the antidumping duty order on citric acid and certain citrate salts (“citric acid”) from the People's Republic of China (“PRC”).¹ The period of review is November 20, 2008, through April 30, 2010. We are amending our Final Results to correct a ministerial error made in the calculation of the antidumping duty margin for Yixing Union Biochemical Co., Ltd. (“Yixing Union”) pursuant to section 751(h) of the Tariff Act of 1930, as amended (“the Act”).

¹ See Citric Acid and Certain Citrate Salts from the People's Republic of China: Final Results of the First Administrative Review of the Antidumping Duty Order, 76 FR 77772 (December 14, 2011) (“Final Results”).

DATES: Effective Date: February 21, 2012.

FOR FURTHER INFORMATION CONTACT: Krisha Hill or Maisha Cryor, AD/CVD Operations, Office 4, Import Administration, International Trade Administration, U.S. Department of Commerce, 14th Street and Constitution Avenue NW., Washington DC, 20230; telephone: (202) 482-4037 or (202) 482-5831, respectively.

SUPPLEMENTARY INFORMATION:

Background

On December 19, 2011, Yixing Union timely submitted an allegation of a ministerial error with respect to the Final Results of the November 20, 2008, through April 30, 2010, administrative review, in accordance with 19 CFR 351.224(c)(ii). No other party submitted comments regarding ministerial error allegations.

Ministerial Errors

A ministerial error as defined in section 751(h) of the Act includes “errors in addition, subtraction, or other arithmetic function, clerical error resulting from inaccurate copying, duplication, or the like, and any other type of unintentional error which the administering authority considers ministerial.” See also 19 CFR 351.224(f).

After analyzing Yixing Union's comments, we have determined, in accordance with 19 CFR 351.224(e), that a ministerial error existed in a certain calculation in the Final Results. Specifically, the Department inadvertently applied marine insurance to all, rather than a portion, of Yixing Union's U.S. sales. Correction of this error results in a change to Yixing Union's final antidumping duty margin. For a detailed discussion of this ministerial error, as well as the Department's analysis, see Final Results of the 2008-2010 Administrative Review of the Antidumping Duty Order for Citric Acid and Certain Citrate Salts from the People's Republic of China: Allegation of Ministerial Error, dated concurrently with this notice.

Therefore, in accordance with section 751(h) of the Act and 19 CFR 351.224(e), we are amending the Final Results of the administrative review of citric acid from the PRC. Listed below is the revised weighted-average dumping margin resulting from these amended final results:

Exporter | Original final margin | Amended final margin
Yixing Union Biochemical Co., Ltd. | 1.11% | 1.01%

Disclosure

We will disclose the calculation performed for these amended final results within five days of the date of publication of this notice to interested parties in accordance with 19 CFR 351.224(b).

Assessment Rate

Pursuant to section 751(a)(2)(A) of the Act, and 19 CFR 351.212(b), the Department will determine, and U.S. Customs and Border Protection (“CBP”) shall assess, antidumping duties on all appropriate entries of subject merchandise in accordance with these amended final results of review. For assessment purposes, we calculated importer (or customer)-specific assessment rates for merchandise subject to this review consistent with 19 CFR 351.212(b)(1). Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer (or customer)-specific assessment rate is de minimis (i.e., less than 0.50 percent), the Department will instruct CBP to assess that importer's (or customer's) entries of subject merchandise without regard to antidumping duties, in accordance with 19 CFR 351.106(c)(2). The Court of International Trade has issued a preliminary injunction enjoining the liquidation of certain entries during the period of review, therefore, assessment instructions will be issued as appropriate.

Cash Deposit Requirements

The following cash deposit requirements will be effective retroactively on any entries made on or after December 14, 2011, the date of publication of the Final Results, for all shipments of the subject merchandise entered, or withdrawn from warehouse, for consumption on or after the publication date, as provided for by section 751(a)(2)(C) of the Act: (1) For Yixing Union, the cash deposit rate will be the amended final margin rate shown above in the “Ministerial Errors” section of this notice; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 156.87 percent; and (4) for all non-PRC exporters of subject merchandise which have not received their own rate, the cash deposit rate will be the rate applicable to the PRC exporters that supplied that non-PRC exporter. These deposit requirements shall remain in effect until further notice.

These amended final results are published in accordance with sections 751(h) and 777(i)(1) of the Act.

Dated: February 10, 2012.
Paul Piquado,
Assistant Secretary for Import Administration.

[FR Doc. 2012-3971 Filed 2-17-12; 8:45 am]

BILLING CODE P